DEPARTMENT OF STATE

[Public Notice: 12921]

Proposal To Extend the Cultural Property Agreement Between the United States and Greece

SUMMARY: Proposal to extend the Memorandum of Understanding Between the Government of the United States of America and the Government of the Hellenic Republic Concerning the Imposition of Import Restrictions on Categories of Archaeological and Ethnological Material of the Hellenic Republic (“the Greece Agreement”).

FOR FURTHER INFORMATION CONTACT: Andrew Zonderman, Cultural Heritage Center, Bureau of Educational and Cultural Affairs: (771) 204-6071; culprop@state.gov; include “Greece” in the subject line.

SUPPLEMENTARY INFORMATION: Pursuant to the authority vested in the Under Secretary of State for Public Diplomacy, and pursuant to 19 U.S.C. 2602(f)(1), an extension of the Greece Agreement is hereby proposed. The Cultural Heritage Center website will provide instructions for public comment: https://www.state.gov/cultural-property-advisory-committee-meeting-march-3-5-2026/.

A copy of the Greece Agreement, the Designated List of categories of material currently restricted from import into the United States, and related information can be found at the Cultural Heritage Center website: https://www.state.gov/current-agreements-and-import-restrictions/.

Andrew L. Zonderman,
Designated Federal Officer, Cultural Property Advisory Committee, Bureau of Educational and Cultural Affairs, U.S. Department of State.

[FR Doc. 2026-01405 Filed 1-23-26; 8:45 am]

BILLING CODE 4710-05-P